POSTAL REGULATORY COMMISSION

[Docket No. PI2021-3; Order No. 5975]

Public Inquiry on Service Performance Measurement Systems

AGENCY: Postal Regulatory Commission.

ACTION: Notice.

SUMMARY: The Commission is recognizing a recently filed Postal Service request proposing modifications to its market dominant service performance measurement systems. This document informs the public of this proceeding and the technical conference, invites public comment, and takes other administrative steps.

DATES: Comments are due: September 17, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On August 31, 2021, the Postal Service filed a notice, pursuant to 39 CFR 3055.5, proposing modifications to its market dominant service performance measurement systems.¹ The systems that are the subject of this proceeding were approved for implementation on July 5, 2018, in Docket No. PI2015-1.² The most recent version of the Postal Service's Service Performance Measurement (SPM) Plan was filed in May 2019.³ Accompanying the Notice is a library reference, which contains a copy of the United States Postal Service, Service Performance Measurement plan, revised August 31, 2021 (both redline and clean versions).⁴

¹ United States Postal Service Notice of Filing Changes to Service Performance Measurement Plan Document, August 31, 2021 (Notice).

² Docket No. PI2015-1, Order Approving Use of Internal Measurement Systems, July 5, 2018 (Order No. 4697); Docket No. PI2015-1, Errata to Order No. 4697, August 21, 2018 (Order No. 4771).

³ See Docket No. PI2019-1, Library Reference USPS-LR-PI2019-1/1, May 21, 2019.

⁴ Library Reference USPS-LR-PI2021-3/1, August 31, 2021.

The Postal Service's proposed modifications add reporting for 3-day, 4-day, and 5-day service standards for First-Class Mail, in place of the current 3-5-day service standard. Notice at 1. The Postal Service asserts that the purpose of this change is to align service performance reporting with upcoming service standard changes which are to take effect on October 1, 2021. Id. The Postal Service also proposes replacing certain references to external SPM with internal SPM, consistent with Order No. 5576.⁵

⁵ See Docket No. PI2019-1, Order Granting Request and Approving Use of Internal Service Performance Measurement System, July 1, 2020 (Order No. 5576).

Interested persons are invited to comment on the Postal Service's proposed modifications concerning the service performance measurement systems. However, commenters are reminded that the scope of this docket is limited to the Postal Service's proposed revisions to the SPM Plan, not the propriety of the underlying service standard changes, which the Commission addressed in Docket No. N2021-1.⁶ Comments are due September 17, 2021. The Commission does not anticipate the need for reply comments at this time. The Commission intends to evaluate the comments received and use those suggestions to help carry out its service performance measurement responsibilities under the Postal Accountability and Enhancement Act. Material filed in this docket will be available for review on the Commission's website, http://www.prc.gov.

⁶ See Docket No. N2021-1, Advisory Opinion on Service Changes Associated with First-Class Mail and Periodicals, July 20, 2021.

It is ordered:

1. Docket No. PI2021-3 is established for the purpose of considering the Postal Service's proposed modifications to its market dominant service performance measurement systems.

2. Interested persons may submit written comments on any or all aspects of the Postal Service's proposals no later than September 17, 2021.

3. Christopher Mohr is designated to represent the interests of the general public in this docket.

4. The Secretary shall arrange for publication of this Notice in the Federal Register.

By the Commission.
Erica A. Barker,
Secretary.

[FR Doc. 2021-19450 Filed 9-7-21; 8:45 am]

BILLING CODE 7710-FW-P